DEPARTMENT OF HEALTH AND HUMAN SERVICES

[Document Identifier: OS-0990-0475]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 22, 2021.

ADDRESSES: Submit your comments to Sherrette.Funn@hhs.gov or by calling (202) 795-7714.

FOR FURTHER INFORMATION CONTACT: When submitting comments or requesting information, please include the document identifier 0990-0475, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: ASPA COVID-19 Public Education Campaign Evaluation Surveys.

Type of Collection: Extension.

OMB No.: 0990-0475.

Abstract: The Office of the Assistant Secretary for Public Affairs (ASPA), U.S. Department of Health and Human Services (HHS) is requesting an extension on a currently approved collection including two components: 1. COVID-19 Attitudes and Beliefs Survey (CABS), and 2. Monthly Outcome Survey (MOS). Throughout execution of the campaign, this information will primarily be used by ASPA to determine whether the campaign is having the intended impact on target audiences' (e.g., parents, young adults, 65+) knowledge, attitudes, and beliefs as they relate to COVID-19, COVID-19 vaccination, and adherence to preventative behaviors. It will also keep key stakeholders informed of the Campaign's progress. Ultimately, the data will inform a thorough evaluation of the efficacy of the campaign and its impact on vaccine uptake.

COVID-19 Attitudes and Beliefs Survey (CABS)

The CABS is a longitudinal survey that will be fielded tri-annually to 4,000 U.S. adults for the duration of the Campaign via NORC at the University of Chicago's AmeriSpeak Panel. The survey will be fielded online, and each fielding period will last between 3 and 6 weeks. Those that respond to wave 1 of the survey will be recontacted in each wave, facilitating a comparison of COVID-19 behavior change over time for a representative sample and evaluation of U.S. adults. Panel members selected to participate in the study will receive one pre-invitation postcard in the mail, one email invitation, and three email reminders to complete the survey in each wave.

Monthly Outcome Survey (MOS)

The MOS is a shorter, cross-sectional survey that will be fielded monthly to 5,000 U.S. adults for the duration of the Campaign via the Ipsos KnowledgePanel 5K Omnibus Survey. The survey will be fielded online, and each fielding period will last between 7 and 10 days.

Annualized Burden Hour Table
| CABS | MOS
Hours to complete survey | 0.58 | 0.17
Participants (per wave) | 4,000 | 5,000
Number of waves (per year) | 3 | 12
Total respondents per year | 12,000 | 60,000
Total burden hours per year | 6,960 | 10,200

Sum of Both Studies

Total respondents per year: 72,000.

Total burden hours per year: 17,160.

Sherrette A. Funn,
Paperwork Reduction Act Reports Clearance Officer, Office of the Secretary.

[FR Doc. 2021-25370 Filed 11-19-21; 8:45 am]

BILLING CODE 4150-25-P